DEPARTMENT OF HEALTH AND HUMAN SERVICES

Statement of Organization, Functions and Delegations of Authority

AGENCY: Office for Civil Rights, Office of the Secretary, HHS.

Part A, Office of the Secretary, Statement of Organization, Functions, and Delegations of Authority of the Department of Health and Human Services (HHS) is being amended at Chapter AT, Office for Civil Rights (OCR), as last amended at 190 FR 60757, dated October 1, 2010, is amended to reflect the restructuring of the Office for Civil Rights (OCR) as follows:

I. Under Part A, Chapter AT, “Office for Civil Rights (OCR),” delete “Section AT.10 Organization” in its entirety and replace with the following:

Section AT.10 Organization. The Office for Civil Rights (OCR) is under the direction of the Director of the Office for Civil Rights (Director) who reports to the Secretary. OCR consists of the following components:

A. Office of the Director (AT)

B. Operations and Resources Division (ATA)

C. Civil Rights Division (ATB)

D. Health Information Privacy Division (ATC)

II. Under Chapter AT, Office for Civil Rights (OCR) delete “Section AT.20 Functions” in its entirety and replace with the following:

A. Office of the Director (AT). As the Department's chief officer and adviser to the Secretary for implementation and enforcement of HHS civil rights and Health Insurance Portability, Accountability Act (HIPAA) privacy, security, and breach notification rules, the Director provides leadership, priorities, guidance and supervision to and is responsible for overall policy, programs, and operations of OCR. The Director also is responsible for representing the Secretary and the Department, in coordination and consultation with the Assistant Secretary for Legislation, before Congress and the Executive Office of the President on matters relating to civil rights and the privacy, security, and breach rules and for liaising with other Federal departments and agencies charged with civil rights and privacy, security, and breach enforcement and compliance responsibilities.

B. Operations and Resources Division (ATA). The Operations and Resources Division (ORD) is headed by a Deputy Director who reports to the Director. Responsibilities of the Deputy Director for Operations and Resources include: Advising on all regional operations and the Centralized Case Management Operation (CCMO); resource management; and other staff functions that include management operations, budget, human resources, travel, information technology, support activities, management analysis, ethics, Continuity of Operations, property management, accountability, and performance metrics. Regional offices are led by Regional Managers who report to the Deputy Director for ORD and are responsible for civil rights and HIPAA complaint investigations, enforcement, and outreach. ORD is responsible for responding to stakeholder calls and triaging civil rights and HIPAA complaints at intake.

C. Civil Rights Division (ATB). The Civil Rights Division is headed by the Deputy Director for Civil Rights, who reports to the Director. The Civil Rights Division oversees OCR's national civil rights program, including Section 1557 of the Affordable Care Act, as well as other federal civil rights statutes and regulations that prohibit non-discrimination on the basis of race, color, national original, sex, disability, and age; the Division also enforces provider conscience laws. The Civil Rights Division provides national leadership in OCR's enforcement and compliance activities, including advising OCR staff nationwide on case development and quality and assisting in developing negotiation, enforcement, and litigation strategies; promulgates regulations, policies, and guidance and provides technical assistance to assist covered entities with compliance; and provides subject matter expertise for public education and outreach activities to stakeholders nationwide. The Civil Rights Division also leads national civil rights compliance reviews; identifies and designs civil rights specific training programs for OCR staff; reviews challenges to OCR's regional civil rights findings; coordinates OCR's government-wide responsibilities for implementation of Age Discrimination Act requirements; and liaises with and provides civil rights technical assistance and advisory services to HHS Operating Divisions, as well as national advocacy, beneficiary, and provider groups, and to other Federal departments and agencies, including serving on intra- and interagency workgroups.

D. Health Information Privacy Division (ATC). The Health Information Privacy Division is headed by the Deputy Director for Health Information Privacy, who reports to the Director. The Health Information Privacy Division oversees OCR's enforcement of the HIPAA Privacy, Security and Breach Notification Rules, as well as the confidentiality provisions of Section 922 of the Public Health Service Act, as amended by the Patient Safety and Quality Improvement Act of 2005 (PSQIA). The Health Information Privacy Division provides national leadership in OCR's enforcement and compliance activities, including advising OCR staff nationwide on case development and quality and assisting in developing negotiation, enforcement, and litigation strategies; promulgates regulations, policies, and guidance and provides technical assistance to assist covered entities with compliance; and provides subject matter expertise for public education and outreach activities to stakeholders nationwide. The Division also identifies OCR training needs and designs HIPAA and PSQIA specific training programs for OCR staff; reviews challenges to OCR's regional offices' HIPAA investigative findings; leads national HIPAA compliance reviews, including audits; and liaises with and provides technical assistance and advisory services to HHS OPDIVS, as well as national advocacy, beneficiary, and provider groups, and to other Federal departments and agencies with respect to health information privacy, security, and breach initiatives and mandates, including serving on intra- and interagency workgroups.

III. Delegation of Authority. Pending further delegation, directives or orders by the Secretary or by the Director of the Office for Civil Rights, all delegations and re-delegations of authority made to officials and employees of affected organizational components will continue in them or their successors pending further re-delegations, provided they are consistent with this reorganization.

Dated: December 12, 2016.
Colleen Barros,
Acting Assistant Secretary for Administration.

[FR Doc. 2016-31394 Filed 12-27-16; 8:45 am]

BILLING CODE 4153-01-P